DEPARTMENT OF ENERGY

Federal Energy Regulatory Commission

Notice of Workshop; Better Stakeholder Involvement: How To Make It Work

February 27, 2002.

The Office of Energy Projects is initiating the second phase of its Better Stakeholder Involvement Series. These workshops will explore ways to help make the pre-filing stakeholder involvement work. They stem from the staff's report entitled: “Ideas For Better Stakeholder Involvement In The Interstate Natural Gas Pipeline Planning Pre-Filing Process' which was a product of the seminars held last year and the latter part of 2000.¹ This first workshop will be held in Atlanta, Georgia on Thursday, April 4, 2002. We plan to conduct future workshops around the country throughout the upcoming year.

¹ The staff report can be downloaded from the FERC web-site at www.ferc.gov or requested by e-mail at: gasoutreach@ferc.gov.

We are again inviting interstate natural gas companies; Federal, state and local agencies; landowners and other non-governmental organizations with a continuing interest in developing successful strategies for involving people in the pre-filing process. The purpose of these workshops is to discuss how stakeholders are implementing the ideas outlined in the staff report. We will not discuss the merits of any pending or planned pipeline projects.

Please join us as we continue to explore and develop ways to enhance the project design and streamline the regulatory process. In a series of panel discussions stakeholders will be sharing their experiences in interactive sessions. Presentations will be made by the staff of the Commission's Office of Energy Projects, various Federal and state agencies, natural gas company representatives, and private landowners.

The objective will be to better define the pre-filing actions. This will aid in identifying and resolving issues, improving the quality of applications, and achieving quicker approval by the Commission for projects required by the public convenience and necessity. Case studies which can be used as examples will be highlighted.

The workshop will be held at the Atlanta Capitol Plaza, 450 Capitol Avenue, SW, Atlanta, Georgia 30312, phone: 404-591-2000, fax: 404-591-1999 Atlanta, Georgia, from 9:15 a.m. to 12:30 p.m. A preliminary agenda and directions to the hotel are enclosed.

If you plan to attend or have suggestions for the agenda, please respond by March 29, 2002 via facsimile to Roberta Coulter at 202/219-2722, or you may email our team at: gasoutreach@ferc.gov. Please include in the response the names, addresses, and telephone numbers of all attendees from your organization.

To help us enhance our panel discussions, please consider, and forward to us, issues and/or questions you would like to have addressed at the meetings. If you have any questions, you may contact any of the staff listed below:

Richard Hoffmann—202/208-0066

Lauren O'Donnell—202/208-0325

Jeff Shenot—202/219-2178

Howard Wheeler—202/208-2299

J. Mark Robinson,
Director, Office of Energy Projects.

Preliminary Workshop Agenda

Better Stakeholder Involvement: How To Make It Work

April Workshop

9 a.m. Introduction, workshop objectives

9:15 a.m. Panel One—The Challenge at Headquarters, A Broad Overview

• How can you develop company-wide commitment to stakeholder outreach?

• How do you implement the “corporate commitment?”

10 a.m. Panel Two—Agency Panel

• Agency experiences with early involvement in a project.

• What went well and what might be improved?

10:30 a.m. Break

10:45 a.m. Panel Three—Citizen

• How can it work for us?

• Why should a landowner be involved?

11:15 a.m. Panel Four—Company Case Study

• Experience with specific projects:

1. What went well?

2. Where there were problems with implementation?

3. How to get around the barriers.

• Examples of resolving issues.

12 p.m. Comments/Discussion/Next Steps

• Implementation Strategies.

1 p.m. Adjourn

BILLING CODE 6717-01-P

[FR Doc. 02-5168 Filed 3-4-02; 8:45 am]

BILLING CODE 6717-01-C